DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 11, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Special Need Request Under the Plant Protection Act.

OMB Control Number: 0579-0291.

Summary of Collection: The Plant Protection Act (PPA) (7 U.S.C. 7701 et seq.) authorizes the Secretary of Agriculture to restrict the importation, entry, or interstate movement of plants, plant products, and other articles to prevent the introduction of plant pests into the United States or their dissemination within the United States. This authority has been delegated to the Animal and Plant Health Inspection Service (APHIS) of the U.S. Department of Agriculture, which administers regulations to implement the PPA. Regulations governing the interstate movement of plants, plant products, and other articles are contained in 7 CFR part 301, “Domestic Quarantine Notices.” These regulations in “Subpart-Preemption and Special Need Requests” allow States or political subdivisions of States to request approval from APHIS to impose prohibitions or restrictions on the movement in interstate commerce of specific articles that pose a plant health risk that are in addition to the prohibitions and restrictions imposed by APHIS.

Need and Use of the Information: APHIS believes that specific information—such as a pest data detection survey with a pest risk analysis that shows that a pest is not present in a State, or if already present, the current distribution in the State, and that the pest would harm or injure the environment and/or agricultural resources of the State or political subdivision—is needed and would be considered along with more general information available to APHIS for the Administrator to be able to determine whether to grant or deny a request for a special need exemption.

The special needs request are submitted with the required information and cover letter from a requesting State to the Deputy Administrator of Plant Protection and Quarantine (PPQ). The required information includes: Survey. The results of a scientifically sound survey that shows that the pest of concern is not in the State or subdivision of the State, or that shows the distribution of the pest, Risk of entry. A pest risk assessment or scientific data that shows that the pest could enter the area, Harm, or injury. Information that shows that if the pest entered or spread in the State, it would harm agricultural or environmental resources. Quantitative estimates of the potential injury are preferred, Special basis. Evidence that the area has special or unique characteristics that make it more vulnerable to harm or injury, such as unique fauna or flora, special historical or cultural interest, etc., Requested restrictions; and Details about what specifically is requested, why it is necessary, why it will work and how it will help.

The administrator's determination would be based upon his or her review of the information submitted by the State or political subdivision in support of its request and would consider any comments received. If this information was not collected or collected less frequently, it would create vulnerabilities which would cripple APHIS' ability to prevent the introduction or spread of plant pests and diseases in the United States.

Description of Respondents: State, Local or Tribal Government.

Number of Respondents: 1.

Frequency of Responses: Reporting: On occasion.

Total Burden Hours: 160.

Dated: April 6, 2022.
Ruth Brown,
Departmental Information Collection Clearance Officer.

[FR Doc. 2022-07689 Filed 4-8-22; 8:45 am]

BILLING CODE 3410-34-P